CORPORATION FOR NATIONAL AND COMMUNITY SERVICE

Proposed Information Collection; Comment Request

AGENCY: CNCS.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirements on respondents can be properly assessed.

Currently, CNCS is soliciting comments concerning its proposed renewal of the National Service Trust Voucher and Payment Request Form/National Service Trust Manual Payment Request Form (OMB #3045-0014); which is used to make payments to repay qualified student loans and to pay for the cost of attending eligible post-secondary educational institutions and approved School-to-Work programs. Prior to making the payments, CNCS will review information from the forms and compare it to information taken from the AmeriCorps members' education award account(s) to ensure that the payments meet the requirements of the law. This information collection is not required to be considered for obtaining grant funding support.

Copies of the information collection request can be obtained by contacting the office listed in the ADDRESSES section of this Notice.

DATES: Written comments must be submitted to the individual and office listed in the ADDRESSES section by April 12, 2016.

ADDRESSES: You may submit comments, identified by the title of the information collection activity, by any of the following methods:

(1) By mail sent to: Corporation for National and Community Service, National Service Trust; Attention: Nahid Jarrett, Trust Officer, 250 E Street SW., Suite 300, Washington, DC, 20525.

(2) By hand delivery or by courier to the CNCS mailroom at the mail address given in paragraph (1) above, between 9:00 a.m. and 4:00 p.m. Eastern Time, Monday through Friday, except Federal holidays.

(3) By fax to: 202-606-3484, Attention: Nahid Jarrett.

(4) Electronically through www.regulations.gov.

Individuals who use a telecommunications device for the deaf (TTY-TDD) may call 1-800-833-3722 between 8:00 a.m. and 8:00 p.m. Eastern Time, Monday through Friday.

FOR FURTHER INFORMATION CONTACT: Nahid Jarrett, 202-606-6753, or by email at njarrett@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS supports programs that provide opportunities for individuals who want to become involved in national service. The service opportunities cover a wide range of activities over varying periods of time. Upon successfully completing an agreed-upon term of service in an approved AmeriCorps program, an AmeriCorps member receives an education award.

The National Service Trust is the office within CNCS that administers the education award program. This involves tracking the service for all AmeriCorps members, ensuring that certain requirements of CNCS enabling legislation are met, and processing school and loan payments that the members authorize both manually and electronically through the MyAmeriCorps portal. With this form AmeriCorps members request Segal Education Award payments, schools and lenders certify their eligibility, and both parties certify certain legal requirements.

Current Action

CNCS seeks to renew the current information collection request.

After an AmeriCorps member completes a period of national service, the individual receives an education award that can be used to pay against qualified student loans or pay for current post-secondary educational expenses. The National Service Trust Voucher and Payment Request Form/National Service Trust Manual Payment Request Form is the document that a member uses to access his or her account in the National Service Trust.

The information collection will otherwise be used in the same manner as the existing application. CNCS also seeks to continue using the current application until the revised application is approved by OMB. The current application is due to expire on 03/31/2016.

Type of Review: Renewal.

Agency: CNCS.

Title: National Service Trust Voucher and Payment Request Form/National Service Trust Manual Payment Request Form.

OMB Number: 3045-0014.

Agency Number: None.

Affected Public: Individuals using a Segal AmeriCorps Education Award, authorized school officials and qualified loan servicers.

Total Respondents: 162,000.

Frequency: One or more per education award.

Average Time per Response: Averages 5 minutes.

Estimated Total Burden Hours: 13,500.

Total Burden Cost (capital/startup): None.

Total Burden Cost (operating/maintenance): None.

Comments submitted in response to this notice will be summarized and/or included in the request for Office of Management and Budget approval of the information collection request; they will also become a matter of public record.

Dated: February 5, 2016.
Maggie Taylor-Coates,
Chief of Trust Operations.

[FR Doc. 2016-02861 Filed 2-11-16; 8:45 am]

BILLING CODE 6050-28-P